DEPARTMENT OF HEALTH AND HUMAN SERVICES

Centers for Disease Control and Prevention

[30 DAY-45-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

The National Health and Nutrition Examination Survey (NHANES) (OMB No. 0920-0237)—Revision—National Center for Health Statistics (NCHS), Centers for Disease Control and Prevention (CDC). The National Health and Nutrition Examination Survey (NHANES) has been conducted periodically since 1970 by the National Center for Health Statistics, CDC. The current cycle of NHANES began in February 1999 and will now be conducted on a continuous, rather than periodic, basis. About 5,000 persons will be examined annually. They will receive an interview and a physical examination. Participation in the survey is completely voluntary and confidential.

NHANES programs produce descriptive statistics which measure the health and nutrition status of the general population. Through the use of questionnaires, physical examinations, and laboratory tests, NHANES studies the relationship between diet, nutrition and health in a representative sample of the United States. NHANES monitors the prevalence of chronic conditions and risk factors related to health such as coronary heart disease, arthritis, osteoporosis, pulmonary and infectious diseases, diabetes, high blood pressure, high cholesterol, obesity, smoking, drug and alcohol use, environmental exposures, and diet. NHANES data are used to establish the norms for the general population against which health care providers can compare such patient characteristics as height, weight, and nutrient levels in the blood. Data from NHANES can be compared to those from previous surveys to monitor changes in the health of the U.S. population. NHANES will also establish a national probability sample of genetic material for future genetic research for susceptibility to disease.

Users of NHANES data include Congress; the World Health Organization; Federal agencies such as NIH, EPA, and USDA; private groups such as the American Heart Association; schools of public health; private businesses; individual practitioners; and administrators. NHANES data are used to establish, monitor, and evaluate recommended dietary allowances, food fortification policies, programs to limit environmental exposures, immunization guidelines and health education and disease prevention programs. The estimated annualized burden for this data collection is 56,457 hours.

Respondent | Number of respondents | Number of responses/respondent | Average burden/response (in hours)
1. Screening interview only | 13,333 | 1 | 0.120
2. Screener and family interviews only | 500 | 1 | 0.400
3. Screener, family, and SP interviews only | 882 | 1 | 1.020
4. Screener, family, and SP interviews and primary MEC exam only | 5,000 | 1 | 6.020
5. Screener, household, and SP interviews, primary MEC exam and full MEC replicate exam | 248 | 1 | 11.020
6. Home exam | 75 | 1 | 1.850
7. Interview verification | 1,333 | 1 | 0.080
8. Hepatitis C follow-up study | 67 | 1 | 0.500
9. PSA follow-up study | 175 | 1 | 0.500
10. Second Dietary Recall | 4,653 | 1 | 0.500
11. Activity Monitor | 3,000 | 1 | 0.750
12. Optional Telephone follow-up study | 2,000 | 1 | 0.500
13. Optional Puerto Rican study | 2,500 | 1 | 6.020

Dated: August 13, 2002.
Nancy E. Cheal,
Acting Associate Director for Policy, Planning, and Evaluation, Centers for Disease Control and Prevention.

[FR Doc. 02-21050 Filed 8-19-02; 8:45 am]

BILLING CODE 4163-18-P